DEPARTMENT OF HEALTH AND HUMAN SERVICES

Health Resources and Services Administration

Notice of Single Source Award to the Telehealth Focused Rural Health Research Center

AGENCY: Health Resources and Services Administration (HRSA), Department of Health and Human Services

ACTION: Notice.

SUMMARY: In FY 2019, HRSA provided $788,000 in additional funding to The University of Iowa for the Telehealth Focused Rural Health Research Center and extended the project period for 12 months.

FOR FURTHER INFORMATION CONTACT: Sarah Heppner, Program Coordinator, Telehealth Focused Rural Health Research Center, (301) 443-5982, SHeppner@hrsa.gov.

SUPPLEMENTARY INFORMATION:

Intended Recipient of the Award: The University of Iowa (U1CRH29074).

Amount of Award: $788,000.

Project Period: September 1, 2019-August 31, 2020.

CFDA Number: 93.155.

Authority: Title VII, § 711 of the Social Security Act (42 U.S.C. 912), as amended.

Justification: The primary goal of the Telehealth Focused Rural Health Research Center (Research Center) Program is to increase the amount of publically available, high quality, impartial, clinically informed, and policy-relevant research related to telehealth. This research assists rural health providers and decision-makers at the federal, state, and local levels by contributing to the policy-relevant evidence base of telehealth services. This program was competed under announcement HRSA-15-149 and awarded to the University of Iowa for a four-year period of performance (September 1, 2015 to August 31, 2019).

In FY 2019 HRSA extended the current project period for 12 months and provided $788,000 to the awardee. The new period of performance started on September 1, 2019, and will end on August 31, 2020. Under its current scope, the Research Center supports several cohorts of HRSA's Telehealth Network Grant Program (TNGP) recipients. HRSA extended the current project period for 12 months and provided supplemental funding to allow additional time to analyze outcomes from the TNGPs and align efforts between the Research Center and the design of the next TNGP cohort. The $788,000 of supplemental funding for this awardee aligned with the historical funding levels for this program.

Further information on the Telehealth Focused Rural Health Research Center is available at: https://www.hrsa.gov/ruralhealth/programopportunities/fundingopportunities/default.aspx?id=482de32c-8b8d-4960-bb86-caad8c9d6905.

Dated: September 30, 2019.
Thomas J. Engels,
Acting Administrator.

[FR Doc. 2019-21904 Filed 10-7-19; 8:45 am]

BILLING CODE 4165-15-P